DEPARTMENT OF HEALTH AND HUMAN SERVICES

Administration for Children and Families

Submission for OMB Review; Sexual Risk Avoidance Education (SRAE) Program Performance Analysis Study (PAS)

AGENCY: Office of Planning, Research, and Evaluation, Administration for Children and Families, HHS.

SUMMARY: The Office of Planning, Research, and Evaluation and the Family and Youth Services Bureau (FYSB) in the Administration for Children and Families propose data collection activities as part of the Sexual Risk Avoidance Education (SRAE) Program Performance Analysis Study (PAS). The goal of the study is to collect, analyze, and report on performance measures data for SRAE programs.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV. Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION:

Description: The purpose of the SRAE program is to educate youth on “how to voluntarily refrain from non-marital sexual activity and prevent other youth risk behaviors.” Data will be used to determine if the SRAE grantees are meeting performance benchmarks related to their program's mission and priorities.

Respondents: Departmental (DSRAE), State (SSRAE), and Competitive (CSRAE) grantees, their subawardees, and program participants.

Annual Burden Estimates
Instrument | Total number of respondents | Annual number of respondents | Number of responses per respondents | Average burden hours per response | Annual burden hours
(1) Participant Entry Survey
DSRAE participants | 161,916 | 53,972 | 1 | 0.1333 | 7,195
SSRAE participants | 1,108,456 | 369,485 | 1 | 0.1333 | 49,252
CSRAE participants | 29,108 | 9,703 | 1 | 0.1333 | 1,293
(2) Participant Exit Survey
DSRAE participants | 129,948 | 43,316 | 1 | 0.2667 | 11,552
SSRAE participants | 886,768 | 295,589 | 1 | 0.2667 | 78,834
CSRAE participants | 22,871 | 7,624 | 1 | 0.2667 | 2,033
(3) Performance Reporting Data Entry Form—Grantees
DSRAE grantees | 150 | 50 | 2 | 16 | 1,600
SSRAE grantees | 117 | 39 | 2 | 16 | 1,248
CSRAE grantees | 144 | 48 | 2 | 16 | 1,536
(4) Performance Reporting Data Entry Form—Sub Awardees
DSRAE subawardees | 3,450 | 1,150 | 2 | 13 | 29,900
SSRAE subawardees | 2,700 | 900 | 2 | 13 | 23,400
CSRAE subawardees | 831 | 277 | 2 | 13 | 7,202

Estimated Total Annual Burden Hours: 215,045.

Authority: 42 U.S.C. 1310.

Mary B. Jones,
ACF/OPRE Certifying Officer.

[FR Doc. 2019-10762 Filed 5-22-19; 8:45 am]

BILLING CODE 4184-83-P